FEDERAL HOUSING FINANCE BOARD

Sunshine Act Meeting: Announcing an Open Meeting of the Board

TIME AND DATE: 2 P.M., Thursday, June 29, 2000.

PLACE: Board Room, Second Floor, Federal Housing Finance Board 1777 F Street, N.W., Washington, D.C. 20006.

STATUS: The entire meeting will be open to the public.

MATTERS TO BE CONSIDERED DURING PORTIONS OPEN TO THE PUBLIC:

• Final Rule: Federal Home Loan Bank Acquired Member Assets, Core Mission Activities, Investments and Advances.

• Final Rule: Amendments to Advances and Other Regulations to Implement Gramm-Leach-Bliley Act Collateral Provisions and Make Related Revisions.

CONTACT PERSON FOR MORE INFORMATION: Elaine L. Baker, Secretary to the Board, (202) 408-2837.

William W. Ginsberg,
Managing Director.

[FR Doc. 00-16010 Filed 6-20-00; 4:59 pm]

BILLING CODE 6725-01-P